DEPARTMENT OF HOMELAND SECURITY

Federal Emergency Management Agency

[Docket ID FEMA-2013-0024; OMB No. 1660-0022]

Agency Information Collection Activities: Submission for OMB Review; Comment Request

AGENCY: Federal Emergency Management Agency, DHS.

ACTION: Notice.

SUMMARY: The Federal Emergency Management Agency (FEMA) will submit the information collection abstracted below to the Office of Management and Budget for review and clearance in accordance with the requirements of the Paperwork Reduction Act of 1995. The submission will describe the nature of the information collection, the categories of respondents, the estimated burden (i.e., the time, effort and resources used by respondents to respond) and cost, and the actual data collection instruments FEMA will use.

DATES: Comments must be submitted on or before December 16, 2013.

ADDRESSES: Submit written comments on the proposed information collection to the Office of Information and Regulatory Affairs, Office of Management and Budget. Comments should be addressed to the Desk Officer for the Department of Homeland Security, Federal Emergency Management Agency, and sent via electronic mail to oira.submission@omb.eop.gov or faxed to (202) 395-5806.

FOR FURTHER INFORMATION CONTACT: Requests for additional information or copies of the information collection should be made to Director, Records Management Division, 1800 South Bell Street, Arlington, VA 20598-3005, facsimile number (202) 646-3347, or email address FEMA-Information-Collections-Management@dhs.gov.

SUPPLEMENTARY INFORMATION:

Collection of Information

Title: Community Rating System (CRS) Program—Application Worksheets and Commentary.

Type of Information Collection: Revision of a currently approved information collection.

Form Titles and Numbers: FEMA Form 086-0-35, Community Rating System Application Letter of Interest and Quick Check Instructions; FEMA Form 086-0-35A, Community Annual Recertification; and FEMA Form 086-0-35B, Environmental and Historic Preservation Certifications.

Abstract: The CRS Application and Certifications are used by communities that participate in the National Flood Insurance Program's (NFIP) Community Rating System (CRS) to document activities that communities have undertaken to mitigate against future flood losses. The CRS Application and Certifications provide a step-by-step process for communities to follow in their efforts to achieve the maximum amount of discount on flood insurance premiums. CRS is a voluntary program where flood insurance costs are reduced in communities that implement practices, such as building codes and public education activities, that are recognized as reducing risks of flooding and promoting the purchase of flood insurance.

Affected Public: State, Local or Tribal Government.

Estimated Number of Respondents: 1,274.

Estimated Total Annual Burden Hours: 32,908 hours.

Estimated Cost: There are no estimated operational, maintenance, capital or start-up costs associated with this information collection.

Dated: November 7, 2013.
Charlene D. Myrthil,
Director, Records Management Division, Mission Support Bureau, Federal Emergency Management Agency, Department of Homeland Security.

[FR Doc. 2013-27271 Filed 11-13-13; 8:45 am]

BILLING CODE 9110-11-P